ENVIRONMENTAL PROTECTION AGENCY

40 CFR Part 86

[OAR-2005-0047; FRL-8290-3]

RIN 2060-AL92

Control of Air Pollution From New Motor Vehicles and New Motor Vehicle Engines; Regulations Requiring Onboard Diagnostic Systems on 2010 and Later Heavy-Duty Engines Used in Highway Applications Over 14,000 Pounds; Revisions to Onboard Diagnostic Requirements for Diesel Highway Heavy-Duty Vehicles Under 14,000 Pounds

AGENCY: Environmental Protection Agency (EPA).

ACTION: Announcement of extension of comment period.

SUMMARY: The EPA is announcing an extension of the public comment period within the context of our proposed heavy-duty onboard diagnostics (OBD) requirements. (72 FR 3200, January 24, 2007) Specifically, we are extending the comment period for comments pertaining to the proposed service information availability requirements for engines used in highway vehicles over 14,000 pounds. These proposed requirements can be found in the proposed § 86.010-38(j). (72 FR 3322) The comment period will be extended from March 26, 2007 to May 4, 2007. We are extending the comment period in response to a request to do so from the Engine Manufacturers Association.

DATES: Written comments pertaining to the proposed service information availability requirements of the proposed § 86.010-38(j) must be received on or before May 4, 2007.

ADDRESSES: Submit your comments, identified by Docket ID No. EPA-HQ-OAR-2005-0047, by one of the following methods:

• http://www.regulations.gov: Follow the online instructions for submitting comments.

• Mail: Onboard Diagnostic (OBD) Systems on 2010 and Later Heavy-Duty Highway Vehicles and Engines, Environmental Protection Agency, Mailcode: 6102T, 1200 Pennsylvania Ave., NW., Washington, DC 20460, Attention Docket ID No. EPA-HQ-OAR-2005-0047.

Instructions: Direct your comments to Docket ID No. EPA-HQ-OAR-2005-0047. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: U.S. EPA, National Vehicle and Fuel Emissions Laboratory, Assessment and Standards Division, 2000 Traverwood Drive, Ann Arbor, MI 48105; telephone (734) 214-4405, fax (734) 214-4816, e-mail sherwood.todd@epa.gov.

SUPPLEMENTARY INFORMATION:

What Should I Consider as I Prepare My Comments for EPA?

Submitting CBI. Do not submit this information to EPA through http://www.regulations.gov or e-mail. Clearly mark the part or all of the information that you claim to be CBI. For CBI information in a disk or CD-ROM that you mail to EPA, mark the outside of the disk or CD-ROM as CBI and then identify electronically within the disk or CD-ROM the specific information that is claimed as CBI). In addition to one complete version of the comment that includes information claimed as CBI, a copy of the comment that does not contain the information claimed as CBI must be submitted for inclusion in the public docket. Information so marked will not be disclosed except in accordance with procedures set forth in 40 CFR part 2.

Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

Where Can I Get a Copy of This Document and Other Related Information?

In addition to being available in the docket, an electronic copy of this notice and an electronic copy of the proposed heavy-duty OBD and associated service information availability requirements can be found at http://www.epa.gov/obd/regtech/heavy.htm. The request from the Engine Manufacturers Association to extend the comment period can be found in the docket with the document ID number EPA-HQ-OAR-2005-0047-0016.

Dated: March 16, 2007.
Margo T. Oge,
Director, Office of Transportation and Air Quality.

[FR Doc. E7-5266 Filed 3-21-07; 8:45 am]

BILLING CODE 6560-50-P